DEPARTMENT OF LABOR

Pension and Welfare Benefits Administration

Teleconferences; Working Groups on Fiduciary Education and Training, Orphan Plans, and Electronic Reporting Advisory Council on Employee Welfare and Pension Benefits Plans: Notice of Meeting

Pursuant to the authority contained in Section 512 of the Employee Retirement Income Security Act of 1974 (ERISA), 29 U.S.C. 1142, the Working Groups assigned by the Advisory Council on Employee Welfare and Pension Benefit Plans to study fiduciary education and training, orphan plans, and electronic reporting will hold open public meetings consecutively, via teleconference, on Thursday, October 17, 2002, in the conference room in Suite N-5677, U.S. Department of Labor Building, Second and Constitution Avenue NW., Washington, DC 20210.

The purpose of the open meetings is for Working Group members to discuss their initial findings concerning the issues studied in preparation for drafting recommendations for the Secretary of Labor.

The teleconference meetings will begin with the Working Group on Fiduciary Education and Training at 10 a.m., followed by the Working Group on Orphan Plans at 1:30 p.m., and will conclude with the Working Group on Electronic Reporting at 3:30 p.m.

Members of the public are encouraged to file a written statement pertaining to the topics by sending 20 copies on or before October 10, 2002, to Sharon Morrissey, Executive Secretary, ERISA Advisory Council, U.S. Department of Labor, Room N-5677, 200 Constitution Avenue, NW., Washington, DC 20210. Individuals or representatives of organizations wishing to address the Working Group should forward requests to the Executive Secretary or telephone (202) 693-8668. Oral presentations will be limited to 20 minutes, but an extended statement may be submitted for the record. Individuals with disabilities who need special accommodations should contact Sharon Morrissey by October 10, 2002, at the address indicated in this notice.

Organizations or individuals may also submit statements for the record without testifying. Twenty (20) copies of such statements should be sent to the Executive Secretary of the Advisory Council at the above address. Papers will be accepted and included in the record of the meeting if received on or before October 10, 2002.

Signed at Washington, DC, this 26th day of September 2002.
Ann L. Combs,
Assistant Secretary, Pension and Welfare Benefits Administration.

[FR Doc. 02-24996 Filed 10-1-02; 8:45 am]

BILLING CODE 4510-29-M